FEDERAL COMMUNICATIONS COMMISSION

47 CFR Parts 73 and 74

[MB Docket No. 03-185; FCC 04-220]

Digital Low Power Television, Television Translator, and Television Booster Stations and Digital Class A Television Stations

AGENCY: Federal Communications Commission.

ACTION: Final rule; announcement of effective date.

SUMMARY: In this document, The Commission announces that the Office of Management and Budget (OMB) has approved, for a period of three years, the information collection requirements contained in FCC Form 337. The form changes were approved on February 7, 2011.

DATES: The amendments to FCC Form 337 are effective on March 3, 2011.

FOR FURTHER INFORMATION CONTACT: For additional information, please contact Cathy Williams, cathy.williams@fcc.gov or on (202) 418-2918.

SUPPLEMENTARY INFORMATION: This document announces that, on February 7, 2011, OMB approved, for a period of three years, the information collection requirements contained in FCC Form 337. The Commission publishes this document to announce the effective date of FCC Form 337. See In the Matter of Amendment of Parts 73 and 74 of the Commission's Rules to Establish Rules for Digital Low Power, Television Translator, and Television Booster Stations and to Amend Rules for Digital Class A Class A Television Stations, MB Docket No. 03-185, FCC 04-220, 69 FR 69325, November 29, 2004.

Synopsis

As required by the Paperwork Reduction Act of 1995 (44 U.S.C. 3507), the Commission is notifying the public that it received OMB approval on February 7, 2011, for the information collection requirements contained in FCC Form 337. Under 5 CFR part 1320, an agency may not conduct or sponsor a collection of information unless it displays a current, valid OMB Control Number.

No person shall be subject to any penalty for failing to comply with a collection of information subject to the Paperwork Reduction Act that does not display a valid OMB Control Number.

The OMB Control Number is 3060-0386 and the total annual reporting burdens for respondents for this information collection are as follows:

OMB Control Number: 3060-0386.

OMB Approval Date: February 7, 2011.

Expiration Date: February 28, 2014.

Title: Special Temporary Authorization (STA) Requests; Notifications; and Informal Filings; Sections 1.5, 73.1615, 73.1635, 73.1740 and 73.3598; CDBS Informal Forms; Section 74.788; FCC Form 337.

Form Number: FCC Form 337.

Type of Review: Revision of a currently approved collection.

Respondents: Business or other for profit entities; not-for-profit institutions; State, Local or Tribal Governments.

Number of Respondents/Responses: 4,070 respondents and 4,070 responses.

Estimated Time per Response: 0.5-4 hours.

Frequency of Response: On occasion reporting requirement.

Total Annual Burden: 4,105 hours.

Total Annual Costs: $2,059,410.

Obligation to Respond: Required to obtain or retain benefits. Statutory authority for this collection of information is contained in Sections 1, 4(i) and (j), 7, 301, 302, 303, 307, 308, 309, 312, 316, 318, 319, 324, 325, 336 and 337 of the Communications Act of 1934, as amended, and Section 204 of the Communications Act of 1934, as amended.

Nature and Extent of Confidentiality: There is no need for confidentiality with this information collection.

Privacy Act Impact Assessment: No impact(s).

Needs and Uses: On September 30, 2004, the Commission adopted the Report and Order, In the Matter of Amendments of Parts 73 and 74 of the Commission's Rules to Establish Rules for Digital Low Power Television Translator, Television Booster Stations, and to Amend Rules for Digital Class A Television Stations, MB Docket No. 03-185, FCC 04-220 (released September 30, 2004). In this Report and Order, the Commission establishes rules and policies for digital low power television (“LPTV”) and television translator (“TV translator”) stations and modifies certain rules applicable to digital Class A TV stations (“Class A”). The Commission addresses important issues such as: (1) The digital low power television transition; (2) channel assignments; (3) authorization of digital service; (4) permissible service; (5) mutually exclusive applications; (6) protected service area; and (7) equipment and other technical and operational requirements. Furthermore, the Report and Order adopts a new information collection requirements, which provides that new digital low power television, television translator, and Class A permittees may submit FCC Form 337, Application for Extension of Time to Construct a Digital Television Broadcast Station, should an acceptable reason for failing to construct, as set forth in 47 CFR 74.788(c)(1)-(2), apply.

Also, the other information collection requirements contained under OMB control number 3060-0386, Special Temporary Authorization (STA) Requests; Notifications; and Informal Filings; Sections 1.5, 73.1615, 73.1635, 73.1740, and 73.3598 of the Commission Rules; CDBS Informal Forms, have already been approved by OMB and remain unchanged.

Federal Communications Commission.
Marlene H. Dortch,
Secretary, Office of the Secretary, Office of Managing Director.

[FR Doc. 2011-3959 Filed 3-2-11; 8:45 am]

BILLING CODE 6712-01-P